NATIONAL CREDIT UNION ADMINISTRATION

Sunshine Act; Notice of a Matter To Be Added to the Agenda for Consideration at an Agency Meeting

Time and Date: 10 a.m., Thursday, October 21, 2010.

Place: Board Room, 7th Floor, Room 7047, 1775 Duke Street, Alexandria, VA 22314-3428.

Status: Open.

Matters To Be Considered

4a. Briefing—NCUSIF Public Education Campaign.

FOR FURTHER INFORMATION CONTACT: Mary Rupp, Secretary of the Board, Telephone: 703-518-6304.

Mary Rupp,
Board Secretary.

[FR Doc. 2010-26713 Filed 10-19-10; 4:15 pm]

BILLING CODE P